DEPARTMENT OF EDUCATION

Office of Special Education and Rehabilitative Services; List of Correspondence

AGENCY: Department of Education.

ACTION: List of Correspondence from January 2, 2008 through March 31, 2008.

SUMMARY: The Secretary is publishing the following list pursuant to section 607(f) of the Individuals with Disabilities Education Act (IDEA). Under section 607(f) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from January 2, 2008 through March 31, 2008. Included on the list are those letters that contain interpretations of the requirements of IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part A—General Provisions

Section 602—Definitions

Topic Addressed: Child With A Disability.

○ Letter dated January 15, 2008 to Coalition of Learning Disabled Chief Executive Officer Allen Brumbaugh, regarding criteria used under Part B of IDEA for determining whether a child is a “child with a disability” and requirements for individualized education programs (IEPs).

Part B—Assistance for Education of All Children With Disabilities

Section 612—State Eligibility

Topic Addressed: Free Appropriate Public Education.

○ Letter dated March 11, 2007 to Mountain Plains Regional Resource Center Director John Copenhaver, clarifying that the policy regarding making a free appropriate public education (FAPE) available to children with disabilities, contained in the Office of Special Education Programs' letter dated April 10, 1995 to Ms. Kathy Balkman, remains consistent with the requirements of the reauthorized IDEA.

○ Letter dated March 17, 2008 to individual (personally identifiable information redacted), regarding the policy on the use of mechanical restraints or other aversive behavioral techniques for children with disabilities.

Topic Addressed: Least Restrictive Environment.

○ Letter dated February 1, 2008 to New Jersey Office of Special Education Programs Director Roberta Wohle, clarifying reporting on indicators in the State Performance Plan and Annual Performance Reports relating to the least restrictive environment provisions in Part B of IDEA.

Topic Addressed: Confidentiality of Education Records.

○ Letter dated March 7, 2008 to Texas Education Agency General Counsel David Anderson, regarding complaints that allege violations of the confidentiality of information provisions in Part B of IDEA and the Family Educational Rights and Privacy Act.

Topic Addressed: Children in Private Schools.

○ Letter dated March 17, 2008 to individual (personally identifiable information redacted), regarding the interpretation of the requirements of Part B of IDEA that are applicable when a public agency places a preschool-age child with a disability in a private preschool that is not a school that is exclusively for children with disabilities as a means of providing FAPE to that child.

○ Letter dated January 25, 2008 to U.S. Senator Joseph I. Lieberman, regarding the obligations of States and local educational agencies (LEAs) to parentally-placed private school children with disabilities.

Topic Addressed: State Educational Agency General Supervisory Authority.

○ Letter dated February 4, 2008 to individual (personally identifiable information redacted), regarding a State complaint involving a public agency's obligation to provide private placements for children with disabilities at public expense.

Topic Addressed: Methods of Ensuring Services.

○ Letter dated January 24, 2008 to Mountain Plains Regional Resource Center Director John Copenhaver, clarifying that Impact Aid funds and Medicaid funds are considered Federal funds, and may not be treated as State and local funds for maintenance of effort calculations.

Topic Addressed: State Advisory Panel.

○ Letter dated March 11, 2008 to Mountain Plains Regional Resource Center Director John Copenhaver, regarding requirements for membership on the State Advisory Panel.

Topic Addressed: Access to Instructional Materials.

○ Letter dated January 30, 2008 to New Mexico State Director of Special Education Denise Koscielniak, clarifying issues surrounding State and LEA implementation of the National Instructional Materials Accessibility Standard.

Section 614—Evaluations, Eligibility Determinations, Individualized Education Programs, and Educational Placements

Topic Addressed: Individualized Education Programs.

○ Letter dated March 31, 2008 to individual (personally identifiable information redacted), clarifying that Part B of IDEA does not require that public agencies obtain parental consent within a specific time period when a child is referred for an evaluation.

○ Letter dated March 31, 2008 to individuals (personally identifiable information redacted), regarding how public agencies meet the requirements for notifying parents of the individuals who will be attending meetings of their child's IEP Team.

○ Letter dated March 17, 2008 to Howard County, Maryland Public School System Facilitator Ronald Caplan, regarding when it is appropriate to invite a representative of any participating agency likely to be responsible for providing or paying for transition services to an IEP Team meeting involving the consideration of the child's postsecondary goals and the transition services needed to assist the child in reaching those goals.

○ Letter dated March 17, 2008 to Utah At Risk and Special Education Services Director Nan Gray, regarding the requirement to obtain the consent of the parents or a child who has reached the age of majority prior to inviting a representative of any participating agency that is likely to be responsible for providing or paying for transition services to an IEP Team meeting involving the consideration of the child's postsecondary goals and the transition services needed to assist the child in reaching those goals.

Section 615—Procedural Safeguards

Topic Addressed: Impartial Due Process Hearing.

○ Letter dated March 17, 2008 to Mountain Plains Regional Resource Center Director John Copenhaver, regarding electronic mail filings of State complaints and due process complaints.

○ Letter dated March 17, 2008 to New Jersey Office of the State Board of Appeals Acting Director John Worthington, clarifying when the due process hearing timeline would begin under specific circumstances after the 30-day resolution process has expired.

Section 618—Program Information

Topic Addressed: Disproportionality.

○ Letter dated February 1, 2008 to Nevada Office of Special Education and Diversity Programs Director Frankie McCabe, clarifying that OSEP continues to believe that the position set out in the April 24, 2007 memorandum, requiring States to reserve funds for comprehensive coordinated early intervening services when there is a finding of significant disproportionality based on race and ethnicity in disciplinary actions, is correct.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: May 30, 2008.
Tracy R. Justesen,
Assistant Secretary for Special Education and Rehabilitative Services.

[FR Doc. E8-12639 Filed 6-4-08; 8:45 am]

BILLING CODE 4000-01-P